DEPARTMENT OF THE TREASURY

Internal Revenue Service

26 CFR Part 1

[REG-126485-01]

RIN 1545-BA06

Statutory Mergers and Consolidations; Hearing Cancellation

AGENCY: Internal Revenue Service (IRS), Treasury.

ACTION: Cancellation of notice of public hearing on proposed rulemaking.

SUMMARY: This document cancels the public hearing on proposed regulations relating to statutory mergers and consolidations.

DATES: The public hearing originally scheduled for Wednesday, May 21, 2003, at 10 a.m., is cancelled.

FOR FURTHER INFORMATION CONTACT: Guy Traynor in the Regulations Unit, Associate Chief Counsel (Procedure & Administration), at (202) 622-7180 (not a toll-free number).

SUPPLEMENTARY INFORMATION: A notice of proposed rulemaking and notice of public hearing that appeared in the Federal Register on Friday, January 24, 2003 (68 FR 3477), announced that a public hearing was scheduled for May 21, 2003, at 10 a.m. in room 4718 of the Internal Revenue Service building, 1111 Constitution Avenue, NW., Washington, DC. The subject of the public hearing is proposed regulations under section 368 of the Internal Revenue Code. The deadline for submitting outlines and requests to speak at the hearing for these proposed regulations expired on April 24, 2003.

The notice of proposed rulemaking and notice of public hearing, instructed those interested in testifying at the public hearing to submit a request to speak and an outline of the topics to be addressed. As of May 2, 2003, no one has requested to speak. Therefore, the public hearing scheduled for May 21, 2003, is cancelled.

Cynthia E. Grigsby,
Chief, Regulations Unit, Associate Chief Counsel (Procedure & Administration).

[FR Doc. 03-11368 Filed 5-6-03; 8:45 am]

BILLING CODE 4830-01-P